DEPARTMENT OF STATE

[Public Notice 9209]

Notice of Intent To Prepare an Environmental Review for the Upland Pipeline, LLC Project

AGENCY: Department of State.

ACTION: Notice; solicitation of comments.

SUMMARY: The U.S. Department of State (the Department) is issuing this Notice of Intent (NOI) to inform the public that it intends to prepare an environmental analysis consistent with the National Environmental Policy Act of 1969 (NEPA) to evaluate the potential impacts of the construction and operation of a proposed new pipeline that would carry crude oil across the United States-Canada border. This NOI informs the public about the proposed project and solicits participation and comments from interested federal, tribal, state, and local government entities and the public. The Department is soliciting comments to help inform the scope and content of the environmental review, as well as the level (either an environmental assessment or environmental impact statement).

DATES: The Department invites the public, governmental agencies, tribal governments, and all other interested parties to comment on the scope of the environmental review. All such comments should be provided in writing, within thirty (30) days of the publication of this notice, as directed below. The comment period for the NOI begins on July 31, 2015 and ends on August 31, 2015. All comments in response to the NOI must be submitted by August 31, 2015.

ADDRESSES: Comments may be submitted at www.regulations.gov by entering the title of this Notice into the search field and following the prompts. Comments may also be submitted by mail, addressed to: Upland Project Manager, U.S. Department of State, 2201 C Street NW., Room 2726, Washington, DC 20520. All comments from agencies or organizations should indicate a contact person for the agency or organization.

FOR FURTHER INFORMATION CONTACT: Project details on the Upland Presidential Permit application, as well as information on the Presidential Permit process, are available on the following Web site: http://www.state.gov/e/enr/applicant/applicants/. Please refer to this Web site or contact the Department at the address listed in the ADDRESSES section of this notice.

SUPPLEMENTARY INFORMATION: The U.S. Department of State (the Department) is issuing this Notice of Intent (NOI) to inform the public that it intends to prepare an environmental analysis consistent with the National Environmental Policy Act of 1969 (NEPA) (as implemented by the Council on Environmental Quality Regulations found at 40 CFR parts 1500-1508) to evaluate the potential impacts of the construction and operation of a proposed new pipeline that would carry crude oil across the United States-Canada border. This NOI informs the public about the proposed project and solicits participation and comments from interested federal, tribal, state, and local government entities and the public. The Department is soliciting comments to help inform the scope and content of the environmental review, as well as the level (either an environmental assessment or environmental impact statement).

On April 22, 2015, Upland Pipeline, LLC (Upland), which is a subsidiary of TransCanada Pipeline Limited, submitted an application for a new Presidential Permit under Executive Order 13337 to authorize the construction, connection, operation, and maintenance of pipeline facilities for the export of crude oil, which would be located at the border of the United States and Canada, in Burke County, North Dakota. The Upland project is designed to transport crude oil from the Williston Basin region in North Dakota to Canada.

The Upland project would consist of approximately 126 miles of new 20-inch diameter pipeline in the United States with 15 mainline valves, one at each of five oil receipt facilities and ten located along the pipeline route. The pipeline project would have the capacity to transport approximately 300,000 barrels per day (bpd) of crude oil. The requested Presidential Permit would cover an approximately 18-mile segment of pipeline between the northernmost mainline shutoff valve in the United States (located near milepost 108 of the proposed project route in Burke County, North Dakota) and the United States-Canada border.

The Canadian portion of the Upland Pipeline system would include a 20-inch diameter pipeline that would extend from the United States-Canada border near Northgate, Saskatchewan to Moosomin, Saskatchewan or Cromer, Manitoba. Review and approval of the proposed Canadian facilities will be subject to the jurisdiction of the Canadian National Energy Board as well as various local, municipal, and provincial authorities.

Project Location: The U.S. portion of the proposed project is located in Burke County, North Dakota.

Environmental Effects: The environmental review will describe the environmental effects of the proposed action; any adverse environmental effects that cannot be avoided should the project be implemented; the reasonable alternatives to the proposed action; comparison between short-term and long-term impacts on the environment; any irreversible and irretrievable commitments of natural, physical or other resources that would occur if the proposed action is implemented; and any proposed mitigation measures, if needed. The analysis will focus on air quality, biological resources, cultural resources, geology and soils, greenhouse gas emissions, hazards and hazardous materials, potential accidents and spills, hydrology and water quality, noise, socioeconomics, environmental justice, transportation and other topics identified during scoping.

While the President has delegated authority to the Department to issue permits for pipeline facilities at the borders of the United States, the environmental review will analyze impacts of the proposed project in the United States that are dependent upon Permit issuance.

All comments received during the scoping period may be made public, no matter how initially submitted. Comments are not private and will not be edited to remove identifying or contact information. Commenters are cautioned against including any information that they would not want publicly disclosed. Any party soliciting or aggregating comments from other persons is further requested to direct those persons not to include any identifying or contact information, or information they would not want publicly disclosed, in their comments.

Deborah Klepp,
Director, Office of Environmental Quality and Transboundary Issues, Department of State.

[FR Doc. 2015-18866 Filed 7-30-15; 8:45 am]

BILLING CODE 4710-09-P